DEPARTMENT OF HEALTH AND HUMAN SERVICES

Centers for Disease Control and Prevention

[Program Announcement 02040]

Violence-Related Injury Prevention Research; Notice of Availability of Funds; Amendment

A notice announcing the availability of Fiscal Year 2002 funds to fund grants for Injury Prevention and Control Research in the priority areas of Violence and Abuse Prevention which was published in the Federal Register on February 28, 2002, (Volume 67, No. 40, pages 9292-9296). The notice is amended as follows:

On page 9293, first column, under Section B. Eligible Applicants, first paragraph, line 3, insert the following after “organizations” “, including public and nonprofit faith-based organizations, * * *”

On page 9293, third column, under Section C. Availability of Funds, the sub-heading, “Funding Preferences”, line 1 and following paragraph, line 2 through line 14 that reads “Priority will be given * * * violence in these groups.” should be deleted.

On page 9294, second column, under Section F. Submission and Deadline, third paragraph, line 1 should be changed to read “On or before May 6, 2002 * * *”

On page 9296, second column, under section J. Where to Obtain Additional Information, first paragraph, lines 12 and 13 should be changed to read “Internet address vbk5@cdc.gov.”

Dated: March 28, 2002.
Michael J. Detmer,
Branch Chief, Acquisition and Assistance Branch A, Procurement and Grants Office, Centers for Disease Control and Prevention (CDC).

[FR Doc. 02-8019 Filed 4-2-02; 8:45 am]

BILLING CODE 4163-18-P